DEPARTMENT OF AGRICULTURE

Rural Housing Service

[Docket No. RHS-23-SFH-0004]

Notice of Funding Availability for the Native Community Development Financial Institution (NCDFI) Relending Demonstration Program FY 2023; Correction

AGENCY: Rural Housing Service, USDA.

ACTION: Notice and updates to previous notice; correction.

SUMMARY: The Rural Housing Service (RHS or Agency), a Rural Development (RD) agency of the United States Department of Agriculture (USDA), is correcting a notice that published in the Federal Register on May 18, 2023, entitled, “Notice of Funding Availability for Native Community Development Financial Institution (NCDFI) Relending Demonstration Program FY 2023.” The purpose of the notice was to announce the opening and closing dates for receipt of applications for the NCDFI Relending Demonstration Program from eligible applicants, as well as submission requirements. The purpose of this notice is to correct inadvertent errors and omissions that were previously published in the Notice on May 18, 2023, in the Federal Register.

DATES: The applicable date of the correction is July 10, 2023.

FOR FURTHER INFORMATION CONTACT: Brian Hudson, Finance and Loan Analyst, Single Family Housing Direct Division, Special Programs and New Initiatives Branch at (608) 697-7725 (voice) (this is not a toll-free number) or brian.hudson@usda.gov.

SUPPLEMENTARY INFORMATION:

Correction

In the Federal Register of May 18, 2023, in FR Doc. 2023-10605 (88 FR 31669), make the following corrections:

(1) On page 31670, under the “C. Eligibility Information” section, in the third column, under item 3. Cost Sharing or Matching, make the following corrections:

(i) On the third line remove the language “shall be required to” and in its place add the language: “should provide a”;

(ii) on the fifth line which runs over to the sixth line, remove the sentence: “The NCDFI must demonstrate ability to meet the required match, or the application will be deemed ineligible;”

(iii) add a new paragraph (d) “(d) The NCDFI without matching funds will not receive points under Section E., Item 3. e.”

(2) On page 31673, in the third column, under item number (i), under the title “e. Matching funding:”, remove the language “Not Eligible” and add the language: “0 points” in its place.

Joaquin Altoro,
Administrator, Rural Housing Service.

[FR Doc. 2023-14470 Filed 7-7-23; 8:45 am]

BILLING CODE P